DEPARTMENT OF TRANSPORTATION

Federal Aviation Administration

14 CFR Part 97

[Docket No. 30207; Amdt. No 2015]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on October 31, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective Upon Publication

FDC date | State | City | Airport | FDC No. | SIAP
09/05/00 | IN | Auburn | De Kalb County | 0/0823 | GPS Rwy 27, Orig...
09/05/00 | OH | Youngstown | Youngstown Elser Metro | 0/0836 | GPS Rwy 10, Orig-A...
09/27/00 | IN | Terre Haute | Terre Haute Intl—Hulman Field | 0/1969 | GPS Rwy 5, Orig...
09/27/00 | IN | Terre Haute | Terre Haute Intl—Hulman Field | 0/1970 | VOR/DME Rwy 5, Amdt 17A...
09/27/00 | MI | Greenville | Greenville Muni | 0/1977 | GPS Rwy 27, Orig...
09/28/00 | IN | Kendallville | Kendallville | 0/2013 | GPS Rwy 27, Orig...
09/28/00 | TX | Dalhart | Dalhart Muni | 0/2001 | VOR Rwy 17, Amdt 12A...
09/28/00 | TX | Dalhart | Dalhart Muni | 0/2002 | GPS Rwy 17, Orig...
09/29/00 | FL | Fernandina Beach | Fernandina Beach | 0/2089 | GPS Rwy 13, Orig...
09/29/00 | LA | Lafayette | Lafayette Regional | 0/2025 | ILS Rwy 22L, Amdt 4A...
09/29/00 | LA | New Roads | False River Airpark | 0/1993 | GPS Rwy 18, Orig...
09/29/00 | LA | Sulphur | Southland Field | 0/1992 | GPS Rwy 15, Amdt 1...
09/29/00 | TX | Bay City | Bay City Muni | 0/2004 | GPS Rwy 13, Orig...
09/29/00 | TX | Dallas | Dallas—Love Field | 0/2084 | ILS Rwy 13R, Amdt 4...
09/29/00 | TX | Galveston | Scholes Intl at Galveston | 0/2035 | VOR Rwy 13, Amdt 2...
09/29/00 | TX | Houston | Houston—Southwest | 0/2081 | NDB Rwy 9, Amdt 4B...
09/29/00 | WI | Chetek | Chetek Muni—Southworth | 0/2071 | VOR/DME-A, Orig...
10/02/00 | TX | Houston | Houston—Southwest | 0/2128 | LOC/DME Rwy 9, Amdt 2B...
10/02/00 | TX | Lufkin | Angelina County | 0/2130 | VOR Rwy 33, Amdt 13...
10/02/00 | VA | Norfolk | Norfolk Intl | 0/2116 | ILS Rwy 5 Amdt 24C...
10/03/00 | TX | Waco | Waco Regional | 0/2171 | NDB Rwy 19, Amdt 18...
10/04/00 | AR | Dumas | Billy Free Municipal | 0/2215 | VOR/DME or GPS Rwy 36, Amdt 2B...
10/04/00 | AR | Jonesboro | Jonesboro Muni | 0/2216 | VOR or GPS Rwy 23, Amdt 9...
10/04/00 | IN | French Lick | French Lick Muni | 0/2206 | NDB Rwy 8, Orig...
10/04/00 | IN | French Lick | French Lick Muni | 0/2208 | GPS Rwy 26, Orig...
10/04/00 | IN | French Lick | French Lick Muni | 0/2209 | GPS Rwy 8, Orig...
10/05/00 | AK | St. George | St George | 0/2293 | LOC/DME-A, Orig...
10/05/00 | AR | Batesville | Batesville Regional | 0/2396 | NDB or GPS Rwy 7, Amdt 5A...
10/05/00 | AR | Springdale | Springdale Muni | 0/2361 | VOR or GPS Rwy 18, Amdt 14B...
10/05/00 | AZ | Phoenix | Phoenix Sky Harbor Intl | 0/2322 | ILS Rwy 7R Orig...
10/05/00 | AZ | Phoenix | Phoenix Sky Harbor Intl | 0/2324 | ILS Rwy 8R Amdt 10...
10/05/00 | AZ | Phoenix | Phoenix Sky Harbor Intl | 0/2325 | ILS Rwy 26R Amdt 1...
10/05/00 | AZ | Phoenix | Phoenix Sky Harbor Intl | 0/2326 | LOC BC Rwy 26L Amdt 9A...
10/05/00 | AZ | Phoenix | Phoenix Sky Harbor Intl | 0/2328 | ILS Rwy 25L Orig...
10/05/00 | AZ | Phoenix | Phoenix Sky Harbor Intl | 0/2344 | VOR/DME Rwy 26L Amdt 1A...
10/05/00 | FL | Miami | Miami Intl | 0/2252 | GPS Rwy 9R, Orig-B...
10/05/00 | FL | Ocala | Ocala Regional/Jim Taylor Field | 0/2243 | RNAV Rwy 36, Orig...
10/05/00 | FL | Ocala | Ocala Regional/Jim Taylor Field | 0/2244 | RNAV Rwy 18, Orig...
10/05/00 | MD | Baltimore | Baltimore—Washington Intl | 0/2273 | RNAV Rwy 33L, Orig...
10/05/00 | MD | Baltimore | Baltimore—Washington Intl | 0/2274 | RNAV Z Rwy 28 Orig...
10/05/00 | MD | Baltimore | Baltimore—Washington Intl | 0/2275 | RNAV Y Rwy 28 Orig...
10/05/00 | MD | Baltimore | Baltimore—Washington Intl | 0/2276 | RNAV Y Rwy 15R Orig...
10/05/00 | MD | Baltimore | Baltimore—Washington Intl | 0/2277 | RNAV Z Rwy 15R Orig...
10/05/00 | MD | Baltimore | Baltimore—Washington Intl | 0/2278 | ILS Rwy 33R Orig...
10/05/00 | MD | College Park | College Park | 0/2264 | VOR/DME RNAV Rwy 15 Amdt 3...
10/05/00 | MD | College Park | College Park | 0/2268 | RNAV Rwy 15 Orig...
10/05/00 | MN | Minneapolis | Minneapolis—St.Paul Intl (Wold—Chamberlain) | 0/2284 | ILS Rwy 30L (CAT II) Amdt 43...
10/05/00 | MN | Minneapolis | Minneapolis—St.Paul Intl (Wold—Chamberlain) | 0/2286 | ILS PRM Rwy 30L, Amdt 4...
10/05/00 | MN | Minneapolis | Minneapolis—St.Paul Intl (Wold—Chamberlain) | 0/2287 | ILS Rwy 30L, Amdt 43...
10/05/00 | NY | Rome | Griffis Airpark | 0/2355 | ILS Rwy 15 Orig...
10/05/00 | PR | San Juan | Luis Munoz Marin Intl | 0/2253 | RNAV Rwy 10, Orig...
10/05/00 | TN | Memphis | Memphis Intl | 0/2298 | ILS Rwy 18L, Amdt 1A...
10/05/00 | VA | Norfolk | Norfolk Intl | 0/2281 | RNAV Rwy 23 Orig...
10/06/00 | CA | Marysville | Yuba County | 0/2425 | NDB or GPS Rwy 14 Amdt 3C...
10/06/00 | CA | Marysville | Yuba County | 0/2427 | VOR Rwy 14 Amdt 9C...
10/06/00 | CA | Marysville | Yuba County | 0/2428 | ILS Rwy 14 Amdt 4C...
10/06/00 | CA | Marysville | Yuba County | 0/2429 | VOR Rwy 32 Amdt 10C...
10/06/00 | CA | Marysville | Yuba County | 0/2430 | GPS Rwy 14 Orig...
10/06/00 | CA | Marysville | Yuba County | 0/2431 | GPS Rwy 32 Orig...
10/06/00 | IL | Salem | Salem-Leckrone | 0/2462 | GPS Rwy 18 Orig...
10/06/00 | IL | Salem | Salem-Leckrone | 0/2463 | NDB Rwy 18 Amdt 9...
10/10/00 | MT | Helena | Helena Regional | 0/2607 | VOR/DME or GPS-B Amdt 6A...
10/10/00 | MT | Helena | Helena Regional | 0/2608 | ILS Rwy 27 Amdt 1A...
10/10/00 | TX | Jacksonville | Cherokee County | 0/2600 | VOR/DME or GPS Rwy 14, Amdt 3A... This replaces FDC 0/2079.
10/11/00 | IN | Indianapolis | Indianapolis International | 0/2652 | ILS Rwy 5L, Amdt 1A...
10/11/00 | LA | Alexandria | Alexandria Esler Regional | 0/2622 | ILS Rwy 26, Amdt 13A...
10/11/00 | OH | Cincinnati | Cincinnati Muni Airport—Lunken Field | 0/2651 | NDB or GPS Rwy 25, Amdt 9...
10/11/00 | OH | Willoughby | Willoughby Lost Nation Muni | 0/2647 | NDB or GPS Rwy 9, Amdt 9A...
10/11/00 | OH | Willoughby | Willoughby Lost Nation Muni | 0/2648 | NDB or GPS Rwy 27, Amdt 12A...
10/11/00 | TX | Childress | Childress Muni | 0/2630 | GPS Rwy 35, Orig... This replaces FDC 0/1490

[FR Doc. 00-26951 Filed 10-19-00; 8:45 am]

BILLING CODE 4910-13-M